DEPARTMENT OF THE INTERIOR

Bureau of Land Management

[OR-130-1020-PF; GP3-0098]

Notice of Resource Advisory Council Meeting

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Eastern Washington Resource Advisory Council (RAC), will meet as indicated below.

DATES: The meeting will be held March 25, 2003, in the conference room of the Spokane District BLM Office, beginning at 9 a.m. The public comment period will begin at approximately 10 a.m. to 10:30 a.m. and the meeting will adjourn at approximately 4 p.m.

SUPPLEMENTARY INFORMATION: The 15-member Council advises the Secretary of the Interior, through the Bureau of Land Management, on a variety of planning and management issues associated with public land management in Eastern Washington. At this meeting, topics we plan to discuss include:

• Interior Columbia Basin Ecosystem Management Project Status.

• Briefing by Resource Advisory Council Chair on meeting with BLM Director.

• Agenda for Future Resource Advisory Council Meetings.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Kathy Helm, Bureau of Land Management, Spokane District Office, 1103 N. Fancher Road, Spokane, Washington, 99212, or call (509) 536-1200.

Dated: February 26, 2003.
Joseph K. Buesing,
District Manager.

[FR Doc. 03-4989 Filed 3-3-03; 8:45 am]

BILLING CODE 4310-33-P